COMMITTEE FOR PURCHASE FROM PEOPLE WHO ARE BLIND OR SEVERELY DISABLED

Procurement List; Proposed Additions and Deletions

AGENCY: Committee for Purchase From People Who Are Blind or Severely Disabled.

ACTION: Proposed addition to and deletions from the Procurement List.

SUMMARY: The Committee is proposing to add a service to the Procurement List that will be furnished by a nonprofit agency employing persons who are blind or have other severe disabilities, and deletes a product and services previously furnished by such agencies.

DATES: Comments must be received on or before: August 27, 2017.

ADDRESSES: Committee for Purchase From People Who Are Blind or Severely Disabled, 1401 S. Clark Street, Suite 715, Arlington, Virginia 22202-4149.

FOR FURTHER INFORMATION CONTACT: Amy B. Jensen, Telephone: (703) 603-7740, Fax: (703) 603-0655, or email CMTEFedReg@AbilityOne.gov.

SUPPLEMENTARY INFORMATION: This notice is published pursuant to 41 U.S.C. 8503(a)(2) and 41 CFR 51-2.3. Its purpose is to provide interested persons an opportunity to submit comments on the proposed actions.

Addition

If the Committee approves the proposed addition, the entities of the Federal Government identified in this notice will be required to provide the service listed below from nonprofit agency employing persons who are blind or have other severe disabilities.

The following service is proposed for addition to the Procurement List for production by the nonprofit agency listed:

Service

Service Type: Base Supply Center Service

Mandatory for: U.S. Army Corps of Engineers, Engineer Research & Development Center, 3909 Halls Ferry Road, Vicksburg, MS

Mandatory Source(s) of Supply: LC Industries, Inc., Durham, NC

Contracting Activity: Dept of the Army, W2R2 USA ENGR R AND D CTR

Deletions

The following product and services are proposed for deletion from the Procurement List:

Product

NSN(s)—Product Name(s): 4610-00-268-9890—Bag, Drinking Water Storage

Mandatory Source(s) of Supply: Huntsville Rehabilitation Foundation, Huntsville, AL

Contracting Activity: Defense Logistics Agency Troop Support

Services

Service Types:

Kitting Service (Assembly)

Belt Weather Kit: (6660-01-024-2638)

Canteen, Water Disposable: (8465-01-062-5854)

Dinnerware Kit: (7360-00-139-0480)

Mop-up Kit, Lateral Line: (4210-01-321-4206)

Assembly of Kit, Hot Food and Drink Service

Mandatory for: GSA, Southwest Supply Center: 819 Taylor Street, Fort Worth, TX

Mandatory Source(s) of Supply: Expanco, Inc., Fort Worth, TX

Contracting Activity: General Services Administration, Fort Worth, TX

Amy B. Jensen,
Director, Business Operations.

[FR Doc. 2017-15964 Filed 7-27-17; 8:45 am]

BILLING CODE 6353-01-P